DEPARTMENT OF VETERANS AFFAIRS

[OMB Control No. 2900-0681]

Agency Information Collection Activity Under OMB Review: Pre and Post Independent Living Assessment

AGENCY: Veterans Benefits Administration, Department of Veterans Affairs.

ACTION: Notice.

SUMMARY: In compliance with the Paperwork Reduction Act (PRA) of 1995, this notice announces that the Veterans Benefit Administration, Department of Veterans Affairs, will submit the collection of information abstracted below to the Office of Management and Budget (OMB) for review and comment. The PRA submission describes the nature of the information collection and its expected cost and burden, and it includes the actual data collection instrument.

DATES: Comments and recommendations for the proposed information collection should be sent by November 12, 2024.

ADDRESSES: To submit comments and recommendations for the proposed information collection, please type the following link into your browser: www.reginfo.gov/public/do/PRAMain, select “Currently under Review—Open for Public Comments”, then search the list for the information collection by Title or “OMB Control No. 2900-0681.”

FOR FURTHER INFORMATION CONTACT: VA PRA information: Maribel Aponte, 202-461-8900, vacopaperworkreduact@va.gov.

SUPPLEMENTARY INFORMATION:

Title: VA Form 28-0791, Pre and Post Independent Living Assessment.

OMB Control Number: 2900-0681 https://www.reginfo.gov/public/do/PRASearch.

Type of Review: Reinstatement with change of a previously approved collection.

Abstract: VA Form 28-0791, Pre and Post Independent Living Assessment (IL) is used by the Vocational Rehabilitation Counselor (VRC) during the initial and post IL evaluations. During this face-to-face meeting, the VRC identifies impairments and or barriers the Veteran may be experiencing with Activities of Daily Living (ADLs). The VRC then uses this information to identify the needs for services. The VRC compares the information obtained from the preliminary and post plan assessments to determine if there are improvements in the Veteran's activities of daily living. Without the information gathered on this form, VR&E is not able to identify IL needs and provide needed services. There are no other invitations or other communications sent to the respondent associated with the information collection. Failure to collect this information would have a detrimental impact upon the determination of appropriate rehabilitation goals for Veterans participating in the IL program. This would negatively impact the Veteran's participation in his or her rehabilitation program.

An agency may not conduct or sponsor, and a person is not required to respond to a collection of information unless it displays a currently valid OMB control number. The Federal Register Notice with a 60-day comment period soliciting comments on this collection of information was published at 89 FR 57996, July 16, 2024.

Affected Public: Individuals or Households.

Estimated Annual Burden: 906 hours.

Estimated Average Burden per Respondent: 30 minutes.

Frequency of Response: Two times.

Estimated Number of Respondents: 906 per year.

Authority: 44 U.S.C. 3501 et seq.

Maribel Aponte,
VA PRA Clearance Officer, Office of Enterprise and Integration, Data Governance Analytics, Department of Veterans Affairs.

[FR Doc. 2024-23606 Filed 10-10-24; 8:45 am]

BILLING CODE 8320-01-P